DEPARTMENT OF LABOR

Employment and Training Administration

[TA-W-65,336]

Kennametal, Inc., Latrobe, PA; Notice of Termination of Investigation

Pursuant to Section 221 of the Trade Act of 1974, as amended, an investigation was initiated on February 23, 2009, in response to a worker petition filed on behalf of workers at Kennametal, Inc., Latrobe, Pennsylvania.

The petitioners have requested that the petition be withdrawn. Consequently, the investigation has been terminated.

Signed at Washington, DC, this 13th day of March 2009.
Linda G. Poole,
Certifying Officer, Division of Trade Adjustment Assistance.

[FR Doc. E9-6301 Filed 3-23-09; 8:45 am]

BILLING CODE 4510-FN-P